DEPARTMENT OF COMMERCE

Census Bureau

Proposed Information Collection; Comment Request; 2015 National Survey of Children's Health Pretest

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before March 23, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Scott Boggess, U.S. Census Bureau, ADDP, HQ-6H063, 4600 Silver Hill Road, Washington, DC 20233-0001 (301-763-6167 or via the Internet at Scott.Boggess@census.gov).

SUPPLEMENTARY INFORMATION:

I. Abstract

The National Survey of Children's Health (NSCH) Pretest project plan will consist of several panels to assess data collection mode preferences (Paper-and-Pencil Interviewing (PAPI) and Internet) of respondents, amount of respondent incentives to gain cooperation and participation in the survey, and telephone as a method of nonresponse follow-up.

The design for the pretest survey data collection is assumed to be two-phase: the first phase will screen for households with children and children with special health care needs; followed by the selection of a single child in households with children and phase two will present age-based topical questions. There are three separate age-based topical surveys that a household could be selected for: 0 to 5 year old children, 6 to 11 year old children, or 12 to 17 year old children. Census staff will develop a sampling plan to select a pretest sample of 16,000 households (addresses) from a vendor-provided sampling frame with split panels to test mode of administration (Mail and Web Push + Mail) and use of cash incentives ($5 or $10). The target overall response rate for the pretest is 70 percent for the screener and 80 percent for the topical questionnaire.

The pretest allows for the preparation of a successful first year production survey which enables the MCHB to produce national and state-based estimates on the health and well-being of children, their families, and their communities as well as estimates of the prevalence and impact of children with special health care needs.

II. Method of Collection

Mailout/Mailback Paper-and-Pencil Interviewing (PAPI) Treatment Groups Plans for the Mailout/Mailback pretest treatment groups include a sample of 8,000 households that will be mailed an English and Spanish language self-administered PAPI screening instrument (questionnaire) followed by a separate age-based topical instrument (questionnaire). The households selected for this group will all be sent a $5 cash incentive with the initial request to complete the screener instrument. This group will then be further broken down into two different treatment groups: one group will receive a $5 cash incentive with the topical instrument and the other will receive a $10 cash incentive with the topical instrument. The sample sizes for each of these different cash incentive groups is 4,000 households.

Web Push + Mail Treatment Groups

Plans for the Web Push + Mail pretest treatment group include a sample of 8,000 households that will receive instructions on how to complete an English or Spanish language screening instrument (questionnaire) via the Web. The households selected for the Web Push + Mail pretest treatment group will be taken through the screening instrument to determine if they screen into one of the three topical instruments. If a household lists at least one child who is 0 to 17 years old in the screener, they will be directed into a topical instrument immediately after the last screener question. The Web Push + Mail group is further broken down into differing incentive groups. Since the respondent is taken through both the screening and topical instruments at one time, either a $5 or $10 cash incentive is mailed along with the initial screening instrument request. Therefore, the Web Push + Mail pretest sample of 8,000 is broken out into two incentive groups of 4,000 households each. Since the Web Push + Mail group does not receive any topical mailing materials, they will not receive any additional incentives.

III. Data

OMB Control Number: 0607-XXXX.

Form Number(s): NSCH-P-S1 (English Screener),

NSCH-P-T1 (English Topical for 0- to 5-year-old children),

NSCH-P-T2 (English Topical for 6- to 11-year-old children),

NSCH-P-T3 (English Topical for 12- to 17-year-old children),

NSCH-PS-S1 (Spanish Screener),

NSCH-PS-T1 (Spanish Topical for 0- to 5-year-old children),

NSCH-PS-T2 (Spanish Topical for 6- to 11-year-old children), and

NSCH-PS-T3 (Spanish Topical for 12- to 17-year-old children).

Type of Review: Regular submission.

Affected Public: Parents, researchers, policymakers, and family advocates.

Estimated Number of Respondents: 11,200 for the Screener and 8,960 for the Topical.

Estimated Time per Response: 4 minutes per screener response and 27-30 minutes per topical response.

Estimated Total Annual Burden Hours: 5,227 hours.

Estimated Total Annual Cost to Public: $2,776,000.00.

Respondent's Obligation: Voluntary.

Legal Authority:

Census Authority: Title 13, U.S.C. Section 8(b)

MCHB Authority: 42 U.S.C., Chapter 7, Title V (Social Security Act)

Confidentiality: Confidential Information Protection and Statistical Efficiency Act (CIPSEA)

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 16, 2015.
Glenna Mickelson,
Management Analyst, Office of the Chief Information Officer.

[FR Doc. 2015-01000 Filed 1-21-15; 8:45 am]

BILLING CODE 3510-07-P